DEPARTMENT OF COMMERCE

Census Bureau

Proposed Information Collection; Comment Request; 2008 Estimate of Micronesians

AGENCY: U.S. Census Bureau.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before May 19, 2008.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument(s) and instructions should be directed to Claire Shook-Finucane via U.S. Census Bureau, 4600 Silver Hill Road, Room 6H154A, Washington, DC 20233, or (301) 763-6092, or via the Internet at claire.shook-finucane@census.gov.

SUPPLEMENTARY INFORMATION:

I. Abstract

The U.S. Census Bureau plans to request clearance from the Office of Management and Budget to survey the residents of Guam and the Commonwealth of the Northern Mariana Islands (CNMI) to collect basic demographic data to meet the needs of The Compact of Free Association.

The Compact of Free Association between the United States, the Federated States of Micronesia, and the Republic of the Marshall Islands went into effect in 1986, and with the Republic of Palau in 1994. The Compact, a joint congressional-executive agreement, provides United States funds to these island areas for a range of development programs, the use of United States currency, immigration privileges, federal processing of applications for air services, United States transportation of mail, and other benefits. In exchange, each Pacific nation guarantees the United States exclusive use of its land for military purposes.

As stated in the Compact of Free Association Amendments Act of 2003 an enumeration of Micronesians shall be conducted every five years in Hawaii, Guam, CNMI, and America Samoa for disbursing Compact funds.¹ The U.S. Department of the Interior decided to use Census' American Community Survey (ACS) data to estimate the number of Micronesians living in Hawaii and, due to the small population of Micronesians living in American Samoa, to use Census 2000 data to determine the number of Micronesians living there. The Department of the Interior has requested that the Census Bureau conduct a survey to estimate the number of Micronesians living in Guam and CNMI. Based on the Compact, this Survey of Micronesians will be fielded in 2008 and will need to provide information to meet three data needs: place of birth, residential tenure, and children of Micronesians. Only questions pertaining to these needs will be requested. The questions and data collection procedures will follow the ACS and U.S. Island Area Census, including a content reinterview phase.

¹ Public Law 108-188.

II. Method of Collection

In Guam, approximately 45 sample blocks totaling about 3,300 sample addresses will be listed and enumerated. In CNMI, approximately 30 sample blocks totaling about 2,000 sample addresses will be listed and enumerated. The data will be collected via in-person interviews. The content reinterview will sample approximately 400 respondents via a telephone number provided by the respondents.

III. Data

OMB Control Number: None.

Form Number: None.

Type of Review: Regular submission.

Affected Public: Individuals or households.

Estimated Number of Respondents: 4,770.

Estimated Time Per Response: 32 minutes.

Estimated Total Annual Burden Hours: 2,544.

Estimated Total Annual Cost: $0.

Respondent's Obligation: Voluntary.

Legal Authority: Title 13, United States Code, Section 8(b) and Public Law 108-188, The Compact of Free Association Amendments Act of 2003.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 12, 2008.
Gwellnar Banks,
Management Analyst, Office of the Chief Information Officer.

[FR Doc. E8-5324 Filed 3-17-08; 8:45 am]

BILLING CODE 3510-07-P